DEPARTMENT OF COMMERCE

United States Patent and Trademark Office

[Docket No. PTO-C-2017-0031]

Performance Review Board (PRB)

AGENCY: United States Patent and Trademark Office, Commerce.

ACTION: Notice.

SUMMARY: In conformance with the Civil Service Reform Act of 1978, the United States Patent and Trademark Office announces the appointment of persons to serve as members of its Performance Review Board.

ADDRESSES: Director, Human Capital Management, Office of Human Resources, United States Patent and Trademark Office, P.O. Box 1450, Alexandria, VA 22313-1450.

FOR FURTHER INFORMATION CONTACT: Anne Mendez at

(571) 272-6173.

SUPPLEMENTARY INFORMATION: The membership of the United States Patent and Trademark Office Performance Review Board is as follows:

Anthony P. Scardino, Chair, Acting Deputy Under Secretary of Commerce for Intellectual Property and Deputy Director of the United States Patent and Trademark Office

Frederick W. Steckler, Vice Chair, Chief Administrative Officer, United States Patent and Trademark Office

Andrew H. Hirshfeld, Commissioner for Patents, United States Patent and Trademark Office

Mary Boney Denison, Commissioner for Trademarks, United States Patent and Trademark Office

Anthony P. Scardino, Chief Financial Officer, United States Patent and Trademark Office

John B. Owens II, Chief Information Officer, United States Patent and Trademark Office

Sarah T. Harris, General Counsel, United States Patent and Trademark Office

Shira Perlmutter, Chief Policy Officer and Director for International Affairs, United States Patent and Trademark Office

Alternates

Sharon R. Marsh, Deputy Commissioner for Trademark Examination Policy, United States Patent and Trademark Office

Andrew I. Faile, Deputy Commissioner for Patent Operations, United States Patent and Trademark Office

Dated: August 10, 2017.
Joseph D. Matal,
Performing the Functions and Duties of the Under Secretary of Commerce for Intellectual Property and Director of the United States Patent and Trademark Office.

[FR Doc. 2017-17321 Filed 8-15-17; 8:45 am]

BILLING CODE 3510-16-P